NUCLEAR REGULATORY COMMISSION

Public Workshop To Discuss the Technical Basis Document for Dose Modeling To Support Decommissioning

AGENCY: Nuclear Regulatory Commission.

ACTION: Workshop.

SUMMARY: This notice announces a public workshop to discuss a Technical Basis Document for dose modeling to support the decommissioning of nuclear facilities. The purpose of this workshop is to provide a forum for the Nuclear Regulatory Commission (NRC) staff, the nuclear industry, other regulatory agencies, and interested stakeholders to discuss the Technical Basis Document developed by the NRC to support the decommissioning of nuclear facilities.

DATES: June 7 and 8, 2000.

SUPPLEMENTARY INFORMATION: On October 21, 1998, (63 FR 56237) NRC announced that it was sponsoring a series of public workshops to support that staff's development of a Standard Review Plan (SRP) and other guidance for the decommissioning of nuclear facilities. NRC staff held a series of workshops on dose modeling, surveys, demonstrating ALARA, and restricted use/alternate criteria on December 1-2, 1998, January 21-22, 1999, March 18-19, 1999, June 16-17, 1999, August 18-19, 1999 and February 17-18, 2000. In addition, as draft SRP modules were completed, they were posted on the NRC website, for review and comment by interested individuals.

ADDRESSES: An agenda for the workshop will be posted on the NRC's website at: http://www.nrc.gov/NMSS/DWM/DECOM/decomm.htm. The workshop will be held at the NRC Headquarters, in the Auditorium of Two White Flint North Building, 11545 Rockville Pike, Rockville, Maryland. NRC staff strongly encourages interested stakeholders to attend and participate in this workshop, as it will offer a unique opportunity to provide the staff with insights, perspectives, and information that stakeholders feel is important for the NRC staff to consider as it finalizes the Technical Basis Document.

FOR FURTHER INFORMATION CONTACT: Dominick A. Orlando, Decommissioning Branch, Division of Waste Management, Office of Nuclear Material Safety and Safeguards (DWM/NMSS), at (301) 415-6749, or Rateb (Boby) Abu-Eid, High-Level Waste and Performance Assessment Branch, DWM/NMSS, at (301) 415-5811.

Dated at Rockville, Maryland this 3rd day of May, 2000.
For the Nuclear Regulatory Commission.
Robert A. Nelson,
Acting Chief, Decommissioning Branch, Division of Waste Management, Office of Nuclear Material Safety and Safeguards.

[FR Doc. 00-11664 Filed 5-9-00; 8:45 am]

BILLING CODE 7590-01-P